ENVIRONMENTAL PROTECTION AGENCY

[FRL-8776-01-R9]

Public Water System Supervision Program Revision for the State of Arizona

AGENCY: Environmental Protection Agency (EPA).

ACTION: Notice of tentative approval.

SUMMARY: Notice is hereby given that the State of Arizona (State) revised its Public Water System Supervision (PWSS) Program under the federal Safe Drinking Water Act (SDWA) by adopting regulations to implement the federal Stage 1 and Stage 2 Disinfectants and Disinfection Byproducts Rules (DBPRs). The Environmental Protection Agency (EPA) has determined that the State's revisions are no less stringent than the corresponding Federal regulations and otherwise meet applicable SDWA primacy requirements. Therefore, EPA intends to approve the stated revisions as part of the State's PWSS Program.

DATES: A request for a public hearing must be received on or before September 24, 2021.

ADDRESSES: All documents relating to this determination are available for inspection online at http://azdeq.gov/notices. In addition, documents relating to this determination are available for inspection by appointment between the hours of 8:30 a.m. and 4:30 p.m., Monday through Friday, except official State or Federal holidays at the following address: Arizona Department of Environmental Quality, Records Center, 1110 West Washington Street, Phoenix, AZ 85007. Please contact the ADEQ Records Center at (602) 771-4380 or http://azdeq.gov/node/219 to schedule an appointment.

FOR FURTHER INFORMATION CONTACT: Daria Evans-Walker, United States Environmental Protection Agency, Region 9, Drinking Water Section via telephone number: (415) 972-3451 or email address: evans-walker.daria@epa.gov.

SUPPLEMENTARY INFORMATION: Background. EPA approved the State's initial application for PWSS Program primary enforcement authority (“primacy”) on August 25, 1978 (43 FR 38083). Since initial approval, EPA has approved various revisions to Arizona's PWSS Program. For the revisions covered by this action, the EPA promulgated the Stage 1 DBP Rule on December 16, 1998 (63 FR 69390-69476) with revisions to the Stage 1 DBP Rule on January 16, 2001 (66 FR 3770-3780). EPA promulgated the Stage 2 DBP Rule on January 2, 2006 (71 FR 388-493) and published Stage 2 DBP Rule corrections on January 27, 2006 (71 FR 4644), June 29, 2006 (71 FR 37168) and November 14, 2008 (73 FR 67456-67463). The EPA promulgated the Stage 1 and Stage 2 DBPRs to reduce drinking water exposure to disinfection byproducts by setting standards for additional disinfection byproducts, establishing maximum residual disinfectant levels for chemical disinfectants, and tightening compliance monitoring requirements. EPA has determined that the Stage 1 and Stage 2 DBPRs were incorporated by reference into the Arizona Administrative Code (AAC), Title 18, Chapter 4, in a manner that Arizona's regulations are comparable to and no less stringent than the federal requirements. EPA has also determined that the State's primacy revision meets all of the regulatory requirements for approval, as set forth in 40 CFR 142.12, including a side-by-side comparison of the Federal requirements and the corresponding State authorities, additional materials to support special primacy requirements of 40 CFR 142.16, and a statement by the Arizona Attorney General certifying that Arizona's laws and regulations adopted by the State to carry out the program revisions were duly adopted and are enforceable. Furthermore, Arizona has an audit privilege law and has provided a legal opinion that Arizona's audit privilege law does not impact the State's ability to implement or enforce its PWSS program. Therefore, EPA is tentatively approving the State's revisions as part of Arizona's PWSS Program.

Public Process. Any interested party may request a public hearing on this determination. A request for a public hearing must be received or postmarked before September 22, 2021, and addressed to the Regional Administrator at the EPA Region 9 via the following email address: R9dw-program@epa.gov. Please note, “State Primacy Rule Determination” in the subject line of the email. The Regional Administrator may deny frivolous or insubstantial requests for a hearing. If a substantial request for a public hearing is made before September 24, 2021, EPA Region 9 will hold a public hearing. Any request for a public hearing shall include the following information: 1. The name, address, and telephone number of the individual, organization, or other entity requesting a hearing; 2. A brief statement of the requesting person's interest in the Regional Administrator's determination and a brief statement of the information that the requesting person intends to submit at such hearing; and 3. The signature of the individual making the request, or, if the request is made on behalf of an organization or other entity, the signature of a responsible official of the organization or other entity.

If EPA Region 9 does not receive a timely and appropriate request for a hearing and the Regional Administrator does not elect to hold a hearing on her own motion, this determination shall become final and effective on September 24, 2021, and no further public notice will be issued.

Authority: Section 1413 of the Safe Drinking Water Act, as amended, 42 U.S.C. 300g-2 (1996), and 40 CFR part 142 of the National Primary Drinking Water Regulations.

Dated: July 28, 2021.
Deborah Jordan,
Acting Regional Administrator, EPA Region 9.

[FR Doc. 2021-18014 Filed 8-24-21; 8:45 am]

BILLING CODE 6560-50-P